DEPARTMENT OF HOMELAND SECURITY

Federal Emergency Management Agency

[Docket ID FEMA-2021-0002; Internal Agency Docket No. FEMA-B-2157]

Proposed Flood Hazard Determinations

AGENCY: Federal Emergency Management Agency, Department of Homeland Security.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before November 10, 2021.

ADDRESSES: The Preliminary FIRM, and where applicable, the FIS report for each community are available for inspection at both the online location https://hazards.fema.gov/femaportal/prelimdownload and the respective Community Map Repository address listed in the tables below. Additionally, the current effective FIRM and FIS report for each community are accessible online through the FEMA Map Service Center at https://msc.fema.gov for comparison.

You may submit comments, identified by Docket No. FEMA-B-2157, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://hazards.fema.gov/femaportal/prelimdownload and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

Community | Community map repository address
Colbert County, Alabama and Incorporated Areas
Project: 18-04-0031S Preliminary Date: February 4, 2021
City of Leighton | City Hall, 8900 Main Street, Leighton, AL 35646.
City of Muscle Shoals | City Hall, 2010 East Avalon Avenue, Muscle Shoals, AL 35661.
City of Sheffield | City Hall, 600 North Montgomery Avenue, Sheffield, AL 35660.
City of Tuscumbia | Street Department, 301-A East 7th Street, Tuscumbia, AL 35674.
Town of Littleville | Littleville Town Hall, 1810 George Wallace Highway, Russellville, AL 35654.
Unincorporated Areas of Colbert County | Colbert County Water Department, 2750 Alabama Highway 20, Tuscumbia, AL 35674.
Franklin County, Alabama and Incorporated Areas
Project: 18-04-0031S Preliminary Date: February 4, 2021
Unincorporated Areas of Franklin County | Franklin County Highway Department, 600 Park Boulevard Northeast, Russellville, AL 35653.
Lauderdale County, Alabama and Incorporated Areas
Project: 18-04-0031S Preliminary Date: February 4, 2021
City of Florence | City Hall, 110 West College Street, Florence, AL 35630.
Town of Killen | Town Hall, 319 J.C. Mauldin Highway, Killen, AL 35645.
Town of Lexington | Town Hall, 11060 Alabama Highway 101, Lexington, AL 35648.
Town of Saint Florian | Saint Florian Town Hall, 83 Saint Florian Road, Florence, AL 35630.
Town of Waterloo | Town Hall, 315 Main Street, Waterloo, AL 35677.
Unincorporated Areas of Lauderdale County | Lauderdale County Road Department, 1630 State Street, Florence, AL 35630.
Lawrence County, Alabama and Incorporated Areas
Project: 18-04-0031S Preliminary Date: February 4, 2021
City of Moulton | City Hall, 720 Seminary Street, Moulton, AL 35650.
Town of North Courtland | Lawrence County Engineering Department, 160 Parker Road, Moulton, AL 35650.
Town of Town Creek | Town Hall, 15935 Main Street, Town Creek, AL 35672.
Unincorporated Areas of Lawrence County | Lawrence County Engineering Department, 160 Parker Road, Moulton, AL 35650.
Bay County, Florida and Incorporated Areas
Project: 11-04-1987S Preliminary Date: October 25, 2019
City of Callaway | Planning and Zoning Department, 324 South Berthe Avenue, Callaway, FL 32404.
City of Lynn Haven | Planning and Zoning Department, 825 Ohio Avenue, Lynn Haven, FL 32444.
City of Mexico Beach | City Hall, 201 Paradise Path, Mexico Beach, FL 32456.
City of Panama City | Planning Department, 501 Harrison Avenue, Panama City, FL 32401.
City of Panama City Beach | Building Department, 116 South Arnold Road, Panama City Beach, FL 32413.
City of Parker | City Hall, 1001 West Park Street, Parker, FL 32404.
City of Springfield | City Hall, 408 School Avenue, Springfield, FL 32401.
Unincorporated Areas of Bay County | Bay County Planning and Zoning Department, 840 West 11th Street, Panama City, FL 32401.
Franklin County, Florida and Incorporated Areas
Project: 12-04-0465S Preliminary Date: June 13, 2019
City of Apalachicola | Planning and Community Development Department, 192 Coach Wagoner Boulevard, Apalachicola, FL 32320.
City of Carrabelle | City Hall, 1206 Highway 98 East, Carrabelle, FL 32322.
Unincorporated Areas of Franklin County | Franklin County Emergency Management Department, 28 Airport Road, Apalachicola, FL 32320.
Hampshire County, Massachusetts and Incorporated Areas
Project: 17-01-0941S Preliminary Date: June 30, 2021
Town of Amherst | Town Hall, 4 Boltwood Avenue, Amherst, MA 01002.
Kaufman County, Texas and Incorporated Areas
Project: 20-06-0074S Preliminary Date: March 26, 2021
City of Combine | City Hall, 123 Davis Road, Combine, TX 75159.
City of Crandall | City Hall, 110 South Main Street, Crandall, TX 75114.
City of Dallas | Dallas Water Utilities, Stormwater Operations, 320 East Jefferson Boulevard, Room 312, Dallas, TX 75203.
City of Forney | City Hall, 101 East Main Street, Forney, TX 75126.
City of Mesquite | Engineering Division, 1515 North Galloway Avenue, Mesquite, TX 75149.
City of Rosser | First United Methodist Church, 202 Ennis Street, Rosser, TX 75157.
City of Seagoville | City Hall, 702 North Highway 175, Seagoville, TX 75159.
Unincorporated Areas of Kaufman County | Kaufman County Courthouse, 100 West Mulberry Street, Kaufman, TX 75142.

[FR Doc. 2021-17219 Filed 8-11-21; 8:45 am]

BILLING CODE 9110-12-P